DEPARTMENT OF ENERGY

Federal Energy Regulatory Commission

Notice of Application Ready for Environmental Analysis and Soliciting Comments, Recommendations, Terms and Conditions, and Prescriptions

January 28, 2000.

Take notice that the following hydroelectric application has been filed with the Commission and is available for public inspection:

a. Type of Application: New Major License.

b. Project No.: 2866-008.

c. Date filed: November 8, 1999.

d. Applicant: Metropolitan Water Reclamation District of Greater Chicago.

e. Name of Project: Lockport Hydroelectric Project.

f. Location: On the Chicago Sanitary and Ship Canal, in Will County, Illinois. The project utilizes facilities of the U.S. Army Corps of Engineers.

g. Filed Pursuant to: Federal Power Act, 16 U.S.C. §§ 791(a)-825(r).

h. Applicant Contact: Thomas K. O'connor, Chief of Maintenance and Operations, or Gregory D. Cargill, Assistant Chief Engineer, General Division, Metropolitan Water Reclamation District of Greater Chicago, 100 East Erie Street, Chicago, IL 60611-5102, Telephone (312) 751-5102.

i. FERC Contact: Hector Perez, hector.perez@ferc.fed.us, (202) 219-2843.

j. Deadline for filing comments, terms, conditions, and prescriptions: Sixty days from the issuance date of this notice.

All documents (original and eight copies) should be filed with: David P. Boergers, Secretary, Federal Energy Regulatory Commission, 888 First Street, NE, Washington, DC 20426.

The Commission's Rules of Practice and Procedure require all intervener filing documents with the Commission to serve a copy of that document on each person on the official service list for the project. Further, if an intervener files comments or documents with the Commission relating to the merits of an issue that may affect the responsibilities of a particular resource agency, they must also serve a copy of the document on that resource agency.

k. This application is not ready for environmental analysis at this time.

l. The project consists of the following existing facilities: (1) A 385-foot-long powerhouse containing two generating units with a total installed capacity of 13.5 MW; (2) a concrete and masonry dam between the Federal Navigation Lock and the powerhouse including a 22-foot-wide abandoned lock, a 20-foot-wide sluice-gate section for passing debris and ice, and a 12-foot-wide non-overflow concrete section; (3) a fender wall approximately 530 feet long for debris skimming and ice protection; (4) a substation; (5) an access road approximately one mile long; and (6) appurtenant facilities.

The applicant does not propose any modifications to the project features or operation, and no additional capacity is proposed for this project under this new license.

m. A copy of the application is available for inspection and reproduction at the Commission's Public Reference Room, located at 888 First Street, NE, Room 2A, Washington, D.C. 20426, or by calling (202) 208-1371. The application may be viewed on http://www.ferc.fed.us/online/rims.htm (call (202)208-2222 for assistance). A copy is also available for inspection and reproduction at the address in item h above.

Filing and Service of Responsive Documents

The application is ready for environmental analysis at this time, and the Commission is requesting comments, reply comments, recommendations, terms and conditions, and prescriptions.

The Commission directs, pursuant to Section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

Anyone may obtain an extension of time for these deadlines from the Commission only upon a showing a good cause or extraordinary circumstances in accordance with 18 CFR 385.2008.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Any of these documents must be filed by providing the original and the number of copies required by the Commission's regulations to: The Secretary, Federal Energy Regulatory Commission, 888 First Street, NE, Washington, DC 20426. An additional copy must be sent to Director, Division of Project Review, Office of Hydropower Licensing, Federal Energy Regulatory Commission, at the above address. Each filing must be accompanied by proof of service on all persons listed on the service list prepared by the Commission in this proceeding, in accordance with 18 CFR 4.34(b), and 385.2010.

David P. Boergers,
Secretary.

[FR Doc. 00-2377 Filed 2-2-00; 8:45 am]

BILLING CODE 6717-01-M